FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011839-005.

Title: Med-Gulf Space Charter Agreement.

Parties: Hapag-Lloyd AG and Compania Sud Americana de Vapores S.A.

Filing Party: Wayne R. Rohde, Esq.; Sher & Blackwell LLP; 1850 M Street, NW.; Suite 900; Washington, DC 20036.

Synopsis: The amendment expands the geographic scope of the agreement to cover all of Florida rather than just Miami.

Agreement No.: 011971-001.

Title: USL/ANL Space Charter and Sailing Agreement.

Parties: U.S. Lines Limited and ANL Singapore Pte Ltd.

Filing Party: Robert B. Yoshitomi, Esq.; Nixon Peabody LLP; 555 West Fifth Street; 46th floor; Los Angeles, CA 90013.

Synopsis: The amendment permits ANL to provide a vessel to the service, and permits U.S. Lines to charter slots on that vessel.

Agreement No.: 011989.

Title: CMA CGM/MARUBA New Brasex Cross Space Charter, Sailing, and Cooperative Working Agreement.

Parties: CMA CGM S.A. and MARUBA S.A.

Filing Party: Paul M. Keane, Esq.; Cichanowicz, Callan, Keane, Vengrow & Textor, LLP; 61 Broadway; Suite 3000; New York, NY 10006-2802.

Synopsis: The agreement authorizes CMA CGM and MARUBA to charter vessel space to each other between the U.S. East Coast and ports throughout South America and the Caribbean.

By Order of the Federal Maritime Commission.
Dated: March 2, 2007.
Bryant L. VanBrakle,
Secretary.

[FR Doc. E7-4101 Filed 3-7-07; 8:45 am]

BILLING CODE 6730-01-P